DEPARTMENT OF COMMERCE

International Trade Administration

Applications for Duty-Free Entry of Scientific Instruments

Pursuant to Section 6(c) of the Educational, Scientific and Cultural Materials Importation Act of 1966 (Pub. L. 89-651; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with the Statutory Import Programs Staff, U.S. Department of Commerce, Washington, D.C. 20230. Applications may be examined between 8:30 A.M. and 5 p.m. in Suite 4100W, U.S. Department of Commerce, Franklin Court Building, 1099 14th Street, NW, Washington, DC.

Docket Number: 06-007. Applicant: University of Connecticut, 91 N. Eagleville Road, BSP Bldg., Unit 3242, Storrs, CT 06269. Instrument: Electron Microscope, Model Technai G2 Spirit BioTWIN. Manufacturer: FEI Company, The Netherlands. Intended Use: The instrument is intended to be used in a multi-user facility providing training and service to faculty, staff and students. A wide variety of cells and tissues will be examined. The ultrastructural arrangement of cells, organelles and macromolecular assemblies and the fine structure of domains within polymers will be investigated. Research projects ranging from evolutionary biology to materials science will use the instrument. Application accepted by Commissioner of Customs: March 20, 2006.

Docket Number: 06-008. Applicant: California Institute of Technology, 1200 E. California Boulevard, Mail Code 103-6, Pasadena, CA 91125. Instrument: Neutron Guide. Manufacturer: SwissNeutronics, Switzerland. Intended Use: The instrument is a compatible key accessory for the high-resolution, direct-geometry, time-of-flight chopper spectrometer (ARCS) at the Spallation Neutron Source at Oak Ridge N.L. It will be used to investigate the energy spectra obtained when neutrons incident on a sample are scattered by the motions of atoms or of electron spins in the sample. Studies will include the thermodynamics of atom vibrations or spin motions, or of their characteristic energies and momenta, cooperative motions of electrons in solids relevant to electrical transport, magnetic properties and superconductivity. The neutron guide is especially useful for studies that require low or medium-energy neutron beams that are incident on the sample. Application accepted by the Commissioner of Customs: February 27, 2006.

Docket Number: 06-009. Applicant: The New York Structural Biology Laboratory, 89 Convent Avenue at 133rd St, New York, NY 10027. Instrument: Electron Microscope, Model JEM 2100F. Manufacturer: JEOL, Ltd., Japan. Intended Use: The instrument is intended to be used by ten educational and research institutions in New York to investigate, among other things, biological assemblies ranging from isolated protein molecules, complexes of protein molecules potentially bound to nucleic acids or membranes, crystalline arrays composed of these protein complexes, cells, viruses, or intact tissues to pursue a wide variety of biological problems. In addition to standard methods of electron microscopy, work will be done using the procedure of electron tomography which is like a CAT scan at molecular proportions, involving the imaging of a given cellular assembly which is systematically tilted to different angles. It will alsobe used in student courses. Application accepted by Commissioner of Customs: March 6, 2006.

Docket Number: 06-010. Applicant: Emory University Hospital, 1364 Clifton Road, NE, Atlanta, GA 30322. Instrument: Electron Microscope, Model Mogagni 268. Manufacturer: FEI Company, The Netherlands. Intended Use: The instrument is intended to be used for examination of normal, abnormal and pathological changes in human cells and tissue samples. Experiments will be conducted based on ultrastructural examination of human kidney biopsies for documentation of pathologic change, if any, for diagnostic evaluation. Ultrathin sections of epoxy embedded specimens under high magnification will be preserved for pathological review. Application accepted by Commissioner of Customs: March 1, 2000.

Docket Number: 06-011. Applicant: President and Fellows of Harvard College, 9 Oxford Street, Cambridge, MA 02138. Instrument: Electron Microscope, Model JEM-2100. Manufacturer: JEOL Ltd., Japan. Intended Use: The instrument is intended to be used to study and characterize nanoscale structures and chemical compositions of novel materials such as semi-conducting materials, nano metallic catalysts and polymers, etc. Some examples include chemical composition by energy-dispersive x-ray spectroscopy, identification of phases and crystal structures by electron diffraction, interfacial arrangements of atomic structures between polymer materials by stain-inducted contrast imaging and lattice-fringe imaging of metallic thin films and alloys. Application accepted by Commissioner of Customs: March 20, 2006.

Docket Number: 06-013. Applicant: Ames Laboratory - U.S. Department of Energy REF: A5-2764, 211, TASF, Iowa State University, Ames, Iowa 50011-3020. Instrument: Electron Microscope, Model Technai G2 F20 X-TWIN. Manufacturer: FEI Company, the Netherlands. Intended Use: The instrument is intended to be used to provide both the imaging and spectrographic analysis necessary to evaluate materials ranging from rapidly solidified metals, nanoscale magnetic alloys, directionally solidified metal alloys, mesoporous catalysis and novel polymer compounds. With reduced length scale of materials, interaction with their environment changes. The instrument will allow probing the chemistry and atomic arrangements (nanostructure) down to the level of the atoms and to assess the success of processing procedures. Application accepted by Commissioner of Customs: March 23, 2006.

Docket Number: 06-014. Applicant: Howard Hughes Medical Institute, Harvard Medical School, 77 Ave. Louis Pasteur, Boston, MA 02115. Instrument: Confocal Microscope. Manufacturer: Evotec, Germany. Intended Use: The instrument is intended to be used to assign phenotopic signatures (phenoprints) to every Drosophilia gene using genome-wide RNAi screens. These can be used to cluster genes that are functionally related and important in functional genomics. The instrument combines the high resolution of confocal laser scanning microscopy with ultra high throughput (>200,00 images per day) and an integrated fast autofocus system provides maximal resolution and lowest background. Application accepted by Commissioner of Customs: March 24, 2006.

Gerald A. Zerdy,
Program Manager, Statutory Import Programs Staff.

[FR Doc. E6-5195 Filed 4-7-06; 8:45 am]

BILLING CODE 3510-DS-S